FEDERAL HOUSING FINANCE AGENCY

[No. 2013-N-14]

Privacy Act of 1974; System of Records

AGENCY: Office of Inspector General, Federal Housing Finance Agency.

ACTION: Notice of the creation of a new Privacy Act System of Records for the Office of Evaluations, the addition of a routine use for the Office of Audits' System of Records, and technical revisions to the existing systems of records.

SUMMARY: In accordance with the Privacy Act of 1974, as amended, the Office of Inspector General of the Federal Housing Finance Agency (FHFA-OIG) gives notice of the creation of a new Privacy Act system of records (SOR) for the Office of Evaluations (OE) and of a new routine use for the Office of Audits' (OA) SOR, and of technical revisions to the existing SORs. The new SOR for OE, the additional routine use for OA's SOR, and the other technical changes are described in detail below.

DATES: Comments must be received on or before December 2, 2013. The proposed new SOR for OE, the additional routine use for OA, and the technical revisions to the existing SORs will become effective without further notice on December 11, 2013, unless comments received on or before that date result in revisions to this notice.

ADDRESSES: Submit comments to FHFA only once, identified by “FHFA-OIG SORN,” using any one of the following methods:

• Email: Bryan.Saddler@fhfaoig.gov. Comments may be sent by email to Bryan Saddler, FHFA-OIG Chief Counsel. Please include “Comments/FHFA-OIG SORN” in the subject line of the message. Comments will be made available for inspection upon written request.

• Federal eRulemaking Portal: http://www.regulations.gov. Follow the instructions for submitting comments. If you submit your comment to the Federal eRulemaking Portal, please also send it by email to FHFA at Bryan.Saddler@fhfaoig.gov to ensure timely receipt by the agency. Please include “Comments/FHFA-OIG SORN” in the subject line of the message.

• U.S. Mail, United Parcel Service, Federal Express, or Other Mail Service: Bryan Saddler, Chief Counsel, Office of Inspector General, Federal Housing Finance Agency, 400 7th Street SW., Washington, DC 20024.

• Courier/Hand Delivered Letters or Packages: For security reasons, courier/hand delivered letters or packages cannot be accepted.

See SUPPLEMENTARY INFORMATION for additional information on posting of comments.

FOR FURTHER INFORMATION CONTACT: Bryan Saddler, Chief Counsel, Office of Inspector General, Federal Housing Finance Agency, 400 7th Street SW., Washington, DC 20024, or at (202) 730-2824. The telephone number for the Telecommunications Device for the Deaf is (202) 245-5619.

SUPPLEMENTARY INFORMATION:

I. Comments

Posting and Public Availability of Comments: All comments received will be posted without change on the FHFA-OIG Web site at http://www.fhfaoig.gov, and will include any personal information provided, such as name, address (mailing and email), and telephone numbers.

II. Background

The Federal Housing Finance Regulatory Reform Act of 2008 (Reform Act), which was passed as Division A of the Housing and Economic Recovery Act of 2008 (HERA), Public Law 110-289, 122 Stat. 2654, 2913, abolished both the Federal Housing Finance Board (FHFB), an independent agency that oversaw the Federal Home Loan Banks (FHLBanks), and the Office of Federal Housing Enterprise Oversight (OFHEO), an office within the Department of Housing and Urban Development (HUD) that oversaw the “safety and soundness” of the Federal Home Loan Mortgage Corporation (Freddie Mac) and the Federal National Mortgage Association (Fannie Mae). See 12 U.S.C. 1422a, 4502(6), 4511, 4512, 4513, 4541, 4563 (2006); H.R. Rep. No. 110-142, at 95. The Reform Act established in place of the FHFB and OFHEO a new entity, the Federal Housing Finance Agency (FHFA), which now regulates and supervises Fannie Mae, Freddie Mac, and the 12 FHLBanks. See Reform Act sections 1002, 1101, 1102 and 1311; 12 U.S.C. 4511(2009).

Section 1105 of HERA also amended the Inspector General Act of 1978 (the IG Act), by specifying that there shall be established an Inspector General within FHFA (FHFA-OIG). See 12 U.S.C. 4517(d). FHFA-OIG is responsible for, among other things, conducting audits, investigations, and evaluations of FHFA's programs and operations; recommending policies that promote economy and efficiency in the administration of FHFA's programs and operations; and preventing and detecting fraud and abuse in FHFA's programs and operations.

On March 2, 2011, FHFA-OIG issued a Federal Register notice establishing five SORs, with the goal of making them reflective of the types of records kept by FHFA-OIG. See 76 FR 11465. The 2011 notice established the following SORs:

FHFA-OIG-1: FHFA-OIG Audit Files Database.

FHFA-OIG-2: FHFA-OIG Investigative & Evaluative Files Database.

FHFA-OIG-3: FHFA-OIG Investigative & Evaluative MIS Database.

FHFA-OIG-4: FHFA-OIG Hotline Database.

FHFA-OIG-5: FHFA-OIG Correspondence Database.

When the five SORs were adopted it was thought that OE would be a companion group to the Office of Investigations (OI). Thus, its SOR was joined with OI's SORs. In practice, however, OE has become its own independent component, and the types of records it maintains are different from those kept by OI. As a result, the first change made by the instant notice is the creation of a separate SOR for OE.

The second change being made is the creation of an additional routine use for the OA SOR so that the routine uses contained therein are the same as OE's. Although the work conducted by OE and OA typically focuses on the efficiency of practices and procedures as opposed to individuals, there is the potential that under certain circumstances it may be necessary for FHFA-OIG to release otherwise protected information in order to convey an accurate and meaningful understanding of the findings included in a report required by the IG Act. For example, if an individual's title has particular significance to the findings (e.g., if the audit or evaluation concerns personnel procedures and the head of personnel has taken or failed to take certain actions that have uniquely contributed to fraud, waste, or abuse), in the interest of transparency and full disclosure, FHFA-OIG may deem it necessary to release the individual's title.

Finally, to ensure that FHFA-OIG's SORs accurately describe the records FHFA-OIG currently keeps and the functions for which they are routinely used, the existing SORs are being amended, revised, updated, and/or modified.

Sections 552a(e)(4) and (11) of title 5, United States Code, require that an agency publish a notice of the establishment or revision of a SOR which affords the public a 30-day period in which to submit comments. To meet this requirement, changes proposed for FHFA-OIG's SORs are set forth in their entirety below. Further, a report of FHFA-OIG's intention to establish a SOR for OE, add a routine use for OA's SOR, and make technical changes to the remaining existing SORs has been submitted to the Committee on Oversight and Government Reform of the House of Representatives, the Committee on Homeland Security and Governmental Affairs of the Senate, and to the Office of Management and Budget (OMB), pursuant to paragraph 4c of Appendix I of OMB Circular A-130, which is entitled “Federal Agency Responsibilities for Maintaining Records About Individuals,” dated February 8, 1996 (61 FR 6427, 6435 (February 20, 1996)).

III. Proposed System of Records

The proposed changes to the existing SORs, and the proposed new SOR are described in detail below:

FHFA-OIG-1

The existing SOR entitled FHFA-OIG Audit Files Database, published at 76 FR 11465 (March 2, 2011), is being amended to create a fourteenth routine use and to update the system location, retention and disposal schedules, FHFA-OIG's address, and the exemptions claimed.

Thus, the following changes are being made:

1. The “routine uses of records maintained in the system, including categories of users and the purposes of such uses” section is being amended to add: “(14) Disclose information that if withheld would tend to diminish or interfere with the comprehension of the significance of or nuances contained in the findings in any and all reports issued in compliance with requirements of the Inspector General Act of 1978 (5 U.S.C. App. 3), as amended.”

2. The “system location” section is being amended by removing “This system of records is located on a computer system owned and administered by FHFA. FHFA-OIG may transfer this system of records to a stand-alone, physically secure FHFA-OIG computer system” and replacing it with “This system of records is located on a computer system that is managed and administered by NASA-OIG.”

3. The “retention and disposal” section is being amended by removing “(1) Audit Reports File (N1-485-08-2, item 17), which provides for annual cut-off and for destruction 10 years after cut-off; and (2) Audit Workpapers (N1-485-08-2, item 2), which provides for annual cut-off and for destruction 6 years and 3 months after cut-off” and replacing it with “FHFA's Comprehensive Records Schedule Item 7.1 (N1-543-11-1, approved 01/11/2013), which provides the cut-off and disposition schedule for audit records.”

4. The “system manager(s) and address” section will be amended by removing “1625 Eye Street NW., Washington, DC 20006” and replacing it with “400 7th Street SW., Washington, DC 20024.”

5. The “exemptions claimed for the system” section will be amended to reflect those records that FHFA specifically exempted when it implemented 5 U.S.C. 552a(j)(2) and (k)(2), see 77 FR 4645 (January 31, 2012) which is codified at 12 CFR 1204.7(c). Consequently, the following language: “Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). FHFA is in the process of publishing an updated Privacy Act regulation at 12 CFR part 1204 that will implement (j)(2) and (k)(2) exemptions to cover FHFA-OIG records. Upon publication of this revised Privacy Act Regulation, these exemptions are hereby incorporated by reference and are an integral part of this SORN” will be removed and replaced with “Some records contained within this system of records are exempt from 5 U.S.C. 552a(c)(3), (d)(1), (d)(2), (e)(1), (e)(2), (e)(3), of the Privacy Act pursuant to 5 U.S.C. 552a(j)(2) and (k)(2), see 12 CFR 1204.7(c), implementing the exemptions in 5 U.S.C. 552a(j)(2) and (k)(2) for FHFA-OIG records. These exemptions are hereby incorporated by reference and are an integral part of this SORN.”

FHFA-OIG-2

The existing SOR entitled, FHFA-OIG Investigative & Evaluative Files Database, published at 76 FR 11465 (March 2, 2011), is being amended to eliminate all references to “evaluative,” “evaluations,” and the “Evaluations Division” and to update the system location, retention and disposal schedules, FHFA-OIG's address, and the exemptions claimed.

Thus, the following changes are being made:

1. The “system name” section is being amended by removing “FHFA-OIG Investigative & Evaluative Files Database” and replacing it with “FHFA-OIG Investigative Files Database.”

2. The “categories of individuals covered by the system” section is being amended by removing “Subjects or potential subjects of investigative or evaluative activities; witnesses involved in investigative or evaluative activities” and replacing it with “Subjects or potential subjects of investigative activities; witnesses involved in investigative activities.”

3. The “categories of records in the system” section is being amended by replacing “(13) other documents collected and/or generated by the Investigations Division and/or the Evaluations Division during the course of official duties” with “(13) other documents collected and/or generated by the Investigations Division during the course of official duties.”

4. The “purpose(s)” section is being amended by removing “The purpose of this system of records is to maintain information relevant to complaints received by FHFA-OIG and collected as part of investigations conducted by FHFA-OIG's Investigations Division and/or evaluations conducted by FHFA-OIG's Evaluations Division” and replacing it with “The purpose of this system of records is to maintain information relevant to complaints received by FHFA-OIG and collected as part of investigations conducted by FHFA-OIG's Investigations Division.”

5. The “system location” section is being amended by removing “This system of records is located on a computer system owned and administered by FHFA. FHFA-OIG may transfer this system of records to a stand-alone, physically secure FHFA-OIG computer system” and replacing it with “This system of records is managed and administered by NASA-OIG.”

6. The “retention and disposal” section is being amended by removing “(1) Chronological File (N1-485-08-2, Item 5), which provides for annual cut-off and for destruction 5 years after cut-off; (2) Inspector General Community Operational Guidance (N1-485-08-2, Item 16), which provides for annual cut-off and for destruction 3 years after cut-off; (3) Grand Jury (6e) Files (N1-485-08-2, Item 14), which provides for cut-off when case is closed, then retention in a segregated, locked file for 20 years thereafter; (4) Investigation Case Files (N1-485-94-1, Item 3.8), which provides for cutting off inactive files at the end of the fiscal year, and for destruction 10 years after cut-off; (5) Non-FHFA Offices' Correspondence (GRS 23, item 1), which permits destruction after 2 years; and (6) FHFA Offices' Correspondence (N1-485-94-1, Item 3.6), which provides for annual cut-off, and for destruction when no longer needed” and replacing it with “(1) FHFA's Comprehensive Records Schedule Item 7.2(a) (N1-543-11-1, approved 01/11/2013), which provides the cut-off and disposition schedule for significant investigative case records; and (2) Item 7.2(b), which provides the cut-off and disposition schedule for all other investigative case records.”

7. The “system manager(s) and address” section will be amended by removing “1625 Eye Street NW., Washington, DC 20006” and replacing it with “400 7th Street, SW., Washington, DC 20024.”

8. The “exemptions claimed for the system” section will be amended to reflect those records that FHFA specifically exempted when it implemented 5 U.S.C. 552a(j)(2) and (k)(2), see 77 FR 4645 (January 31, 2012) which is codified at 12 CFR 1204.7(c). Consequently, the following language: “Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). FHFA is in the process of publishing an updated Privacy Act regulation at 12 CFR part 1204 that will implement (j)(2) and (k)(2) exemptions to cover FHFA-OIG records. Upon publication of this revised Privacy Act Regulation, these exemptions are hereby incorporated by reference and are an integral part of this SORN” will be removed and be replaced with “Some records contained within this system of records are exempt from 5 U.S.C. 552a(c)(3), (d)(1), (d)(2), (e)(1), (e)(2), (e)(3), of the Privacy Act pursuant to 5 U.S.C. 552a(j)(2) and (k)(2), see 12 CFR 1204.7(c), implementing the exemptions in 5 U.S.C. 552a(j)(2) and (k)(2) for FHFA-OIG records. These exemptions are hereby incorporated by reference and are an integral part of this SORN.”

FHFA-OIG-3

The existing SOR entitled, FHFA-OIG Investigative & Evaluative MIS Database, published at 76 FR 11465 (March 2, 2011), is being amended to eliminate all references to “evaluative,” “evaluations,” and the “Evaluations Division” and to update the system location, retention and disposal schedules, FHFA-OIG's address, and the exemptions claimed.

Thus, the following changes are being made:

1. The “system name” section is being amended by removing “FHFA-OIG Investigative & Evaluative MIS Database” and replacing it with “FHFA-OIG Investigative MIS Database.”

2. The “categories of individuals covered by the system” section is being amended by removing “Subjects or potential subjects of investigative or evaluative activities; witnesses involved in investigative or evaluative activities” and replacing it with “Subjects or potential subjects of investigative activities; witnesses involved in investigative activities.”

3. The “categories of records in the system” section is being amended by replacing “(13) other documents collected and/or generated by the Investigations Division and/or the Evaluations Division during the course of official duties” and replacing it with “(13) other documents collected and/or generated by the Investigations Division during the course of official duties.”

4. The “purpose(s)” section is being amended by removing “The purpose of this system of records is to maintain information relevant to complaints received by FHFA-OIG and collected as part of investigations conducted by FHFA-OIG's Investigations Division and/or evaluations conducted by FHFA-OIG's Evaluations Division” and replacing it with “The purpose of this system of records is to maintain information relevant to complaints received by FHFA-OIG and collected as part of investigations conducted by FHFA-OIG's Investigations Division.”

5. The “system location” section is being amended by removing “This system of records is located on a computer system owned and administered by FHFA. FHFA-OIG may transfer this system of records to a stand-alone, physically secure FHFA-OIG computer system” and replacing it with “This system of records is managed and administered by Microsoft/Office365.”

6. The “retention and disposal” section is being amended by removing “(1) Chronological File (N1-485-08-2, Item 5), which provides for annual cut-off and for destruction 5 years after cut-off; (2) Inspector General Community Operational Guidance (N1-485-08-2, Item 16), which provides for annual cut-off and for destruction 3 years after cut-off; (3) Grand Jury (6e) Files (N1-485-08-2, Item 14), which provides for cut-off when case is closed, then retention in a segregated, locked file for 20 years thereafter; (4) Investigation Case Files (N1-485-94-1, Item 3.8), which provides for cutting off inactive files at the end of the fiscal year, and for destruction 10 years after cut-off; (5) Non-FHFA Offices' Correspondence (GRS 23, item 1), which permits destruction after 2 years; and (6) FHFA Offices' Correspondence (N1-485-94-1, Item 3.6), which provides for annual cut-off, and for destruction when no longer needed” and replacing it with “(1) FHFA's Comprehensive Records Schedule Item 7.2(a) (N1-543-11-1, approved 01/11/2013), which provides the cut-off and disposition schedule for significant investigative case records; and (2) Item 7.2(b), which provides the cut-off and disposition schedule for all other investigative case records.”

7. The system manager(s) and address will be amended by removing “1625 Eye Street NW., Washington, DC 20006” and replacing it with “400 7th Street SW., Washington, DC 20024.”

8. The “exemptions claimed for the system” section will be amended to reflect those records that FHFA specifically exempted when it implemented 5 U.S.C. 552a(j)(2) and (k)(2), see 77 FR 4645 (January 31, 2012), which is codified at 12 CFR 1204.7(c). Consequently, the following language: “Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). FHFA is in the process of publishing an updated Privacy Act regulation at 12 CFR part 1204 that will implement (j)(2) and (k)(2) exemptions to cover FHFA-OIG records. Upon publication of this revised Privacy Act Regulation, these exemptions are hereby incorporated by reference and are an integral part of this SORN” will be removed and be replaced with “Some records contained within this system of records are exempt from 5 U.S.C. 552a(c)(3), (d)(1), (d)(2), (e)(1), (e)(2), (e)(3), of the Privacy Act pursuant to 5 U.S.C. 552a(j)(2) and (k)(2), see 12 CFR 1204.7(c), implementing the exemptions in 5 U.S.C. 552a(j)(2) and (k)(2) for FHFA-OIG records. These exemptions are hereby incorporated by reference and are an integral part of this SORN.”

FHFA-OIG-4

The existing SOR entitled, FHFA-OIG Hotline Database, published at 76 FR 11465 (March 2, 2011), is being amended to update the system location, retention and disposal schedules, FHFA-OIG's address, and the exemptions claimed.

Thus, the following changes are being made:

1. The “system location” section is being amended by removing “This system of records is located on a computer system owned and administered by FHFA. FHFA-OIG may transfer this system of records to a stand-alone, physically secure FHFA-OIG computer system” and replacing it with “This system of records is managed and administered by NASA-OIG.”

2. The “retention and disposal” section is being amended by removing “(1) Chronological File (N1-485-08-2, Item 5), which provides for annual cut-off and for destruction 5 years after cut-off; (2) Inspector General Community Operational Guidance (N1-485-08-2, Item 16), which provides for annual cut-off and for destruction 3 years after cut-off; (3) Non-FHFA Offices' Correspondence (GRS 23, item 1), which permits destruction after 2 years; and (4) FHFA Offices' Correspondence (N1-485-94-1, Item 3.6), which provides for annual cut-off, and for destruction when no longer needed” and replacing it with “FHFA's Comprehensive Records Schedule Item 7.4 (N1-543-11-1, approved 01/11/2013), which provides the cut-off and disposition schedule for hotline records.”

3. The “system manager(s) and address” section will be amended by removing “1625 Eye Street NW., Washington, DC 20006” and replacing it with “400 7th Street SW., Washington, DC 20024.”

4. The “exemptions claimed for the system” section will be amended to reflect those records that FHFA specifically exempted when it implemented 5 U.S.C. 552a(j)(2) and (k)(2), see 77 FR 4645 (January 31, 2012) which is codified at 12 CFR 1204.7(c). Consequently, the following language: “Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). FHFA is in the process of publishing an updated Privacy Act regulation at 12 CFR part 1204 that will implement (j)(2) and (k)(2) exemptions to cover FHFA-OIG records. Upon publication of this revised Privacy Act Regulation, these exemptions are hereby incorporated by reference and are an integral part of this SORN” will be removed and be replaced with “Some records contained within this system of records are exempt from 5 U.S.C. 552a(c)(3), (d)(1), (d)(2), (e)(1), (e)(2), (e)(3), of the Privacy Act pursuant to 5 U.S.C. 552a(j)(2) and (k)(2), see 12 CFR 1204.7(c), implementing the exemptions in 5 U.S.C. 552a(j)(2) and (k)(2) for FHFA-OIG records. These exemptions are hereby incorporated by reference and are an integral part of this SORN.”

FHFA-OIG-5

The existing SOR entitled FHFA-OIG Correspondence Database, published at 76 FR 11465 (March 2, 2011), is being amended to update the system location, retention and disposal schedules, FHFA-OIG's address, and the exemptions claimed.

Thus, the following changes are being made:

1. The “system location” section is being amended by removing “This system of records is located on a computer system owned and administered by FHFA. FHFA-OIG may transfer this system of records to a stand-alone, physically secure FHFA-OIG computer system” and replacing it with “This system of records is located on a computer system that is managed and administered by Microsoft/Office 365.”

2. The “retention and disposal” section is being amended by removing “(1) Chronological File (N1-485-08-2, Item 5), which provides for annual cut-off and for destruction 5 years after cut-off; (2) Non-FHFA Offices' Correspondence (GRS 23, item 1), which permits destruction after 2 years; (3) FHFA Offices' Correspondence (N1-485-94-1, Item 3.6), which provides for annual cut-off, and for destruction when no longer needed; and (4) Freedom of Information Act Request Files (GRS 14, Item 11a(1)): If access is granted to all requested records, destroy 2 years after reply; if access is denied for technical reasons (failure to pay fee, nonexistent records, etc.), destroy 2 years after reply; if access is denied on substantive grounds at least in part but no appeal, destroy 6 years after reply; if denial is appealed, destroy in accordance with GRS 14, Item 12 for FOIA Request Appeals” and replacing it with “FHFA's Comprehensive Records Schedule Items 1.1, which provides the retention and disposition schedule for records of the Director and other senior agency officials; Item 1.2, which provides the retention and disposition schedule for Congressional correspondence; Item 6.2, which provides the retention and disposition schedule for litigation and administrative hearing correspondence; Item 6.4, which provides the retention and disposition schedule for routine office administration correspondence; and Item 7 which provides the retention and disposition schedule for Inspector General records that may include correspondence (N1-543-11-1, approved 01/11/2013).”

3. The “system manager(s) and address” section will be amended by removing “1625 Eye Street NW., Washington, DC 20006” and replacing it with “400 7th Street SW., Washington, DC 20024.”

4. The “exemptions claimed for the system” section will be amended to reflect those records that FHFA specifically exempted when it implemented 5 U.S.C. 552a(j)(2) and (k)(2), see 77 FR 4645 (January 31, 2012) which is codified at 12 CFR 1204.7(c). Consequently, the following language: “Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). FHFA is in the process of publishing an updated Privacy Act regulation at 12 CFR part 1204 that will implement (j)(2) and (k)(2) exemptions to cover FHFA-OIG records. Upon publication of this revised Privacy Act Regulation, these exemptions are hereby incorporated by reference and are an integral part of this SORN” will be removed and be replaced with “Some records contained within this system of records are exempt from 5 U.S.C. 552a(c)(3), (d)(1), (d)(2), (e)(1), (e)(2), (e)(3), of the Privacy Act pursuant to 5 U.S.C. 552a(j)(2) and (k)(2), see 12 CFR 1204.7(c), implementing the exemptions in 5 U.S.C. 552a(j)(2) and (k)(2) for FHFA-OIG records. These exemptions are hereby incorporated by reference and are an integral part of this SORN.”

FHFA-OIG-6

A new SOR entitled, FHFA-OIG Evaluations Files Database is being created.

Thus, the following section is being added:

FHFA-OIG-6

SYSTEM NAME:

FHFA-OIG Evaluations Files Database.

SECURITY CLASSIFICATION:

Sensitive but unclassified.

SYSTEM LOCATION:

This system of records is located on a computer system that is managed and administered by NASA-OIG.

CATEGORIES OF INDIVIDUALS COVERED BY THE SYSTEM:

Evaluators, certain administrative support staff, contractors of FHFA-OIG, and certain subjects and/or witnesses referenced in FHFA-OIG's evaluations activities.

CATEGORIES OF RECORDS IN THE SYSTEM:

Evaluation reports, white papers, and other reports or studies; and (2) working papers, which may include copies of correspondence, evidence, subpoenas, responses to evidence requests, memoranda of interviews conducted, statistical tables, and/or other documents collected and/or generated by the Office of Evaluations or its contractors during the course of official duties.

AUTHORITY FOR MAINTENANCE OF THE SYSTEM:

The system is established and maintained pursuant to 12 U.S.C. 4517(d), 5 U.S.C. App. 3, and 5 U.S.C. 301.

PURPOSE(S):

This system is maintained in order to act as a management information system for FHFA-OIG evaluations projects and personnel and to assist in the accurate and timely conduct of evaluations.

ROUTINE USES OF RECORDS MAINTAINED IN THE SYSTEM, INCLUDING CATEGORIES OF USERS AND THE PURPOSES OF SUCH USES:

These records may be used to:

(1) Disclose pertinent information to appropriate Federal, foreign, State, local, Tribal, or other public authorities or self-regulatory organizations responsible for investigating or prosecuting the violations of, or for enforcing or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a subpoena, or in connection with criminal law proceedings;

(3) Provide information to a congressional office in response to an inquiry made at the request of the individual to whom the record pertains;

(4) Disclose information to another Federal agency to (a) permit a decision as to access, amendment, or correction of records to be made in consultation with or by that agency, or (b) verify the identity of an individual or the accuracy of information submitted by an individual who has requested access to or amendment or correction of records;

(5) Disclose information to the Department of Justice when seeking legal advice, or when (a) the agency, or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(6) Disclose information to the appropriate foreign, State, local, Tribal, or other public authority or self-regulatory organization for the purpose of (a) consulting as to the propriety of access to or amendment or correction of information obtained from that authority or organization, or (b) verifying the identity of an individual who has requested access to or amendment or correction of records;

(7) Disclose information to contractors and other agents who have been engaged by FHFA-OIG or one of its components to provide products or services associated with FHFA-OIG's or component's responsibility arising under the Freedom of Information Act/Privacy Act (FOIA/PA);

(8) Disclose information to the National Archives and Records Administration for use in records management inspections;

(9) Disclose information to appropriate agencies, entities, and persons when (1) FHFA-OIG suspects or has confirmed that the security or confidentiality of information in the system of records has been compromised; (2) FHFA-OIG has determined that as a result of the suspected or confirmed compromise there is a risk of harm to economic or property interests, identity theft or fraud, or harm to the security or integrity of this system or other systems or programs (whether maintained by FHFA-OIG or another agency or entity) that rely upon the compromised information; and (3) the disclosure made to such agencies, entities, and persons is reasonably necessary to assist in connection with FHFA-OIG's efforts to respond to the suspected or confirmed compromise and prevent, minimize, or remedy such harm;

(10) Disclose information to any source, either private or governmental, to the extent necessary to elicit information relevant to an FHFA-OIG audit, evaluation, or investigation;

(11) Disclose information to the Equal Employment Opportunity Commission, Merit Systems Protection Board, arbitrators, and other parties responsible for processing personnel actions or conducting administrative hearings or appeals, or if needed in the performance of other authorized duties;

(12) In situations involving an imminent danger of death or physical injury, disclose relevant information to an individual or individuals who are in danger;

(13) Disclose information to persons engaged in conducting and reviewing internal and external peer reviews of FHFA-OIG to ensure adequate internal safeguards and management procedures exist and are in compliance with applicable standards; and

(14) Disclose information that if withheld would tend to diminish or interfere with the comprehension of the significance of or nuances contained in the findings in any and all reports issued in compliance with requirements of the Inspector General Act of 1978 (5 U.S.C. App. 3), as amended.

DISCLOSURE TO CONSUMER REPORTING AGENCIES:

None.

POLICIES AND PRACTICE FOR STORING, RETRIEVING, ACCESSING, RETAINING AND DISPOSING OF RECORDS IN THE SYSTEM:

STORAGE:

Paper records and electronic media.

RETRIEVABILITY:

By name of the evaluator, support staff, contractors, or subject of or witnesses to the evaluation.

SAFEGUARDS:

The records are accessible to FHFA-OIG personnel, all of whom have been the subject of background investigations, on a need-to-know basis. Disclosure of information through remote terminals is restricted through the use of passwords and sign-on protocols, which are periodically changed; these terminals are accessible only to authorized persons. Paper records are maintained in locked facilities and/or cabinets with restricted access.

RETENTION AND DISPOSAL:

Records in this system will be retained in accordance with approved retention schedules, including FHFA's Comprehensive Records Schedule Item 7.2(a) (N1-543-11-1, approved 01/11/2013), which provides the cut-off and disposition schedule for significant evaluative case records; and (2) Item 7.2(b), which provides the cut-off and disposition schedule for all other evaluative case records. Additional approved schedules may apply. Destruction of records shall occur in the manner(s) appropriate to the type of record, such as shredding of paper records and/or deletion of computer records.

SYSTEM MANAGER(S) AND ADDRESS:

Chief Counsel, Office of Inspector General, Federal Housing Finance Agency, 400 7th Street SW., Washington, DC 20024.

NOTIFICATION PROCEDURES:

Individuals seeking notification and access to any record contained in this system of records, or seeking to contest its content, may inquire in writing in accordance with instructions appearing at 12 CFR 1202.5. This system of records may contain records that are exempt from the notification, access, and contesting records requirements pursuant to the provisions of 5 U.S.C. 552a(j)(2) and (k)(2).

RECORD ACCESS PROCEDURES:

See “Notification Procedures” above.

CONTESTING RECORD PROCEDURES:

See “Notification Procedures” above.

RECORD SOURCE CATEGORIES:

Some records contained within this system of records are exempt from the requirement that the record source categories be disclosed pursuant to the provisions of 5 U.S.C. 552a(j)(2) and (k)(2).

EXEMPTIONS CLAIMED FOR THE SYSTEM:

Some records contained within this system of records are exempt from 5 U.S.C. 552a(c)(3), (d)(1), (d)(2), (e)(1), (e)(2), (e)(3), of the Privacy Act pursuant to 5 U.S.C. 552a(j)(2) and (k)(2), see 12 CFR 1204.7(c) implementing the exemptions in 5 U.S.C. 552a(j)(2) and (k)(2) for FHFA-OIG records. These exemptions are hereby incorporated by reference and are an integral part of this SORN.

Dated: October 24, 2013.
Michael P. Stephens,
Inspector General (Acting).

[FR Doc. 2013-26010 Filed 10-31-13; 8:45 am]

BILLING CODE 6725-08-P